DEPARTMENT OF HOMELAND SECURITY

Federal Emergency Management Agency

Agency Information Collection Activities: Proposed Collection; Comment Request

AGENCY: Federal Emergency Management Agency, Emergency Preparedness and Response Directorate, Homeland Security.

ACTION: Notice and request for comments.

SUMMARY: The Federal Emergency Management Agency, as part of its continuing effort to reduce paperwork and respondent burden, invites the general public and other Federal agencies to take this opportunity to comment on proposed new information collections. In accordance with the Paperwork Reduction Act of 1995 (44 U.S.C. 3506(c)(2)(A)), this notice seeks comments concerning the application process for Citizen Corps affiliate programs and organizations.

SUPPLEMENTARY INFORMATION: Citizen Corps, an initiative launched by President George W. Bush in January 2002, has a mission to harness the power of every individual through education, training, and volunteer service to make communities safer, stronger, and better prepared for the threats of terrorism, crime, public health issues, and disasters of all kinds. In order to fulfill its mission, Citizen Corps Councils will coordinate service and training activities at the state, local, and tribal levels. The Citizen Corps Individual Registration form asks those interested in participating in Citizen Corps for their fields of interest and expertise, as well as geographical location, in order to allow Citizen Corps Council personnel to better plan and coordinate activities.

Collection of Information

Title: Citizen Corps Individual Volunteer Registration.

Type of Information Collection: Existing collection in use without an OMB control number.

OMB Number: 1660-New.

Abstract: Citizen Corps requests information from individuals who would like to support the Citizen Corps program as volunteers. The requested information will allow Citizen Corps to group potential volunteers by their fields of interest and expertise, as well as by their geographical location. This information will be used primarily by local Citizen Corps Councils in order for them to plan and coordinate activities.

Affected Public: Individuals or households.

Estimated Total Annual Burden Hours: 3333 hours.

Number of Respondents: 40,000.

Frequency of Response: One-Time.

Hour Burden Per Response: 5 minutes.

Comments:

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Branch Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Suzann Gallagher, Program Specialist, Federal Emergency Management Agency, Emergency Preparedness and Response Directorate, at (202) 646-3737 for additional information. You may contact Ms. Anderson for copies of the proposed information collection at email address informationcollections@fema.gov.

Dated: March 26, 2003.
Vernon Adler,
Acting Division Director, Information Resources Management Division, Information Technology Services Directorate.

[FR Doc. 03-7792 Filed 4-1-03; 8:45 am]

BILLING CODE 6718-01-P